DEPARTMENT OF HOMELAND SECURITY

Coast Guard

33 CFR Part 117

[Docket No. USCG-2018-0153]

Drawbridge Operation Regulation; Sacramento River, Sacramento, CA

AGENCY: Coast Guard, DHS.

ACTION: Notice of deviation from drawbridge regulation; modification.

SUMMARY: The Coast Guard has modified a temporary deviation from the operating schedule that governs the Tower Drawbridge over the Sacramento River, mile 59.0, at Sacramento, CA. The modified deviation extends the period the bridge may remain in the closed-to-navigation position to allow the bridge owner to complete mechanical and electrical rehabilitation work on the bridge.

DATES: This modified deviation is effective without actual notice from December 13, 2018 through 6 a.m. on January 1, 2019. For the purposes of enforcement actual notice will be used from December 10, 2018 until December 13, 2018.

ADDRESSES: The docket for this deviation, [USCG-2018-0153], is available at http://www.regulations.gov. Type the docket number in the “SEARCH” box and click “SEARCH.” Click on Open Docket Folder on the line associated with this deviation.

FOR FURTHER INFORMATION CONTACT: If you have questions on this temporary deviation, call or email Carl T. Hausner, Chief, Bridge Section, Eleventh Coast Guard District; telephone 510-437-3516; email Carl.T.Hausner@uscg.mil.

SUPPLEMENTARY INFORMATION: On October 19, 2018, the Coast Guard published a temporary deviation entitled “Drawbridge Operation Regulation; Sacramento River, Sacramento, California” in the Federal Register (83 FR 52976). That temporary deviation, from 6 a.m. on October 8, 2018 to 6 a.m. on December 1, 2018, allowed the drawspan to remain in the closed-to-navigation position. The bridge owner, the California Department of Transportation, has requested a modification to the currently published deviation to extend from 6 a.m. on December 1, 2018 to 6 a.m. on January 1, 2019 in order to complete the mechanical and electrical rehabilitation work on the bridge.

The Tower Drawbridge, mile 59.0, across the Sacramento River, has a vertical clearance of 30 feet above Mean High Water in the closed-to-navigation position. The draw operates as required by 33 CFR 117.189(a). Navigation on the waterway is commercial and recreational.

The drawspan will be secured in the closed-to-navigation position from 6 a.m. on December 1, 2018 to 6 a.m. on January 1, 2019 to complete electrical and mechanical rehabilitation on the bridge. The extension of time is necessary due to supply chain disruptions and atmospheric conditions. This temporary deviation modification has been coordinated with the waterway users. No objections to the proposed temporary deviation modification were raised.

Vessels able to pass through the bridge in the closed position may do so at anytime. The bridge will be able to open for emergencies if at least 72-hour notice is given to the bridge operator. There is no immediate alternate route for vessels to pass. The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: December 10, 2018.
Carl T. Hausner,
District Bridge Chief, Eleventh Coast Guard District.

[FR Doc. 2018-26997 Filed 12-12-18; 8:45 am]

BILLING CODE 9110-04-P